ENVIRONMENTAL PROTECTION AGENCY

[OPP-50862; FRL-6388-7]

Issuance of Experimental Use Permits

AGENCY: Environmental Protection Agency (EPA).

ACTION: Notice.

SUMMARY: EPA has granted experimental use permits (EUPs) to the following pesticide applicants. An EUP permits use of a pesticide for experimental or research purposes only in accordance with the limitations in the permit.

FOR FURTHER INFORMATION CONTACT: By mail: Biopesticides and Pollution Prevention Division (7511C), Office of Pesticide Programs, Environmental Protection Agency, Ariel Rios Bldg., 1200 Pennsylvania Ave., NW., Washington, DC 20460.

In person or by telephone: Contact the designated person at the following address at the office location, telephone number, or e-mail address cited in each experimental use permit: 1921 Jefferson Davis Highway, Arlington, VA.

SUPPLEMENTARY INFORMATION:

I. General Information

A. Does this Action Apply to Me?

This action is directed to the public in general. Although this action may be of particular interest to those persons who conduct or sponsor research on pesticides, the Agency has not attempted to describe all the specific entities that may be affected by this action. If you have any questions regarding the information in this action, consult the designated contact person listed for the individual EUP.

B. How Can I Get Additional Information, Including Copies of this Document and Other Related Documents?

You may obtain electronic copies of this document from the EPA Internet Home Page at http://www.epa.gov/. On the Home Page select “Laws and Regulations” and then look up the entry for this document under the “Federal Register—Environmental Documents.” You can also go directly to the Federal Register listings at http://www.epa.gov/fedrgstr/.

II. EUPs

EPA has issued the following EUPs:

70515-EUP-1. Amendment. J.P. BioRegulators, Inc., IR-4 Project Rutgers University, Cook College, P.O. Box 231, New Brunswick, NJ 08903-0231. This experimental use permit allows the use of 72 kilograms each year of the biochemical phospholipid plant growth regulator Lyso-PE (lysophosphatidylethanolamine) on 570 acres of apples, citrus, cranberries, grapes, nectarines, peaches, pears, strawberries, and tomatoes to evaluate ripening and extended storage shelf life. The program is authorized only in the States of Arizona, California, Florida, Massachussetts, Michigan, Ohio, Washington, West Virginia, and Wisconsin. The experimental use permit is effective from June 3, 1998 to June 1, 2001. (Sheila A. Moats; Rm. 910W17, Crystal Mall #2; telephone number: (703) 308-1259; e-mail address: moats.sheila@epa.gov).

70515-EUP-2. Amendment. J.P. BioRegulators, Inc., IR-4 Project Rutgers University, Cook College, P.O. Box 231, New Brunswick, NJ 08903-0231. This experimental use permit allows the use of 72 kilograms each year of the biochemical phospholipid plant growth regulator Lyso-PE (lysophosphatidylethanolamine) on 570 acres of apples, citrus, cranberries, grapes, nectarines, peaches, pears, strawberries, and tomatoes to evaluate ripening and extended storage shelf life. The program is authorized only in the States of Arizona, California, Florida, Massachussetts, Michigan, Ohio, Washington, West Virginia, and Wisconsin. The experimental use permit is effective from August 18, 1998 to June 1, 2001. (Sheila A. Moats; Rm. 910W17, Crystal Mall #2; telephone number: (703) 308-1259; e-mail address: moats.sheila@epa.gov).

34704-EUP-13. Issuance. Platte Chemical Company, 419 18th Street, Greeley, CO 80632. This experimental use permit allows the use of 5,000 pounds of the plant growth regulator 2,6-diisopropylnaphtalene on 300 million pounds of stored potatoes to inhibit sprouting. The program is authorized only in the States of Idaho, Maine, Minnesota, North Dakota, Oregon, Washington, and Wisconsin. The experimental use permit is effective from September 28, 1999 to September 28, 2000. A temporary tolerance has been established for residues of the active ingredient in or on stored potatoes. (Driss Benmhend; Rm. 937, Crystal Mall #2; telephone number: (703) 308-9525; e-mail address: benmhend.driss@epa.gov)

Persons wishing to review these EUPs are referred to the designated contact person. Inquiries concerning these permits should be directed to the persons cited above. It is suggested that interested persons call before visiting the EPA office, so that the appropriate file may be made available for inspection purposes from 8 a.m. to 4 p.m., Monday through Friday, excluding legal holidays.

Authority: 7 U.S.C. 136.

List of Subjects

Environmental protection, Experimental use permits.

Dated: February 8, 2000.
Janet L. Andersen,
Director, Biopesticides and Pollution Prevention Division, Office of Pesticide Programs.

[FR Doc. 00-4658 Filed 2-29-00; 8:45 am]

BILLING CODE 6560-50-F